DEPARTMENT OF ENERGY

Federal Energy Regulatory Commission

[Project No. 5223-040]

International Falls Power Company; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 5223-040.

c. Date filed: November 24, 2025.

d. Applicant: International Falls Power Company.

e. Name of Project: International Falls Hydroelectric Project (project).

f. Location: The project is located on the Rainy River in Koochiching and St. Louis Counties, Minnesota.

g. Filed Pursuant to: Federal Power Act 16 U.S.C. 791 (a)-825(r).

h. Applicant Contact: Mr. Robert Pflederer Assistant Superintendent—Power/Recovery PCA—International Falls, MN, 400 2nd Street International Falls, MN 56649; telephone: 218-324-3931; or email: RobertPflederer@packagingcorp.com.

i. FERC Contact: Colleen Corballis at (202) 502-8598; or email at colleen.corballis@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on January 23, 2026.

The Commission strongly encourages electronic filing. Please file additional study requests and requests for cooperating agency status using the Commission's eFiling system at http://www.ferc.gov/docs-filing/efiling.asp. Commenters can submit brief comments up to 10,000 characters, without prior registration, using the eComment system at http://www.ferc.gov/docs-filing/ecomment.asp. For assistance, please contact FERC Online Support at FERCOnlineSupport@ferc.gov, (866) 208-3676 (toll free), or (202) 502-8659 (TTY). In lieu of electronic filing, please send a paper copy via U.S. Postal Service to: Debbie-Anne A. Reese, Secretary, Federal Energy Regulatory Commission, 888 First Street NE, Room 1A, Washington, DC 20426. Submissions sent via any other carrier must be addressed to: Debbie Anne A. Reese, Secretary, Federal Energy Regulatory Commission, 12225 Wilkins Avenue, Rockville, Maryland 20852. The first page of any filing should include docket number P-5223-040.

m. The application is not ready for environmental analysis at this time.

n. The project consists of: (1) a 48,296.3-acre impoundment (Rainy Lake) having a storage capacity of 1,545,482 acre-feet at elevation 1,108.1 feet mean sea level; (2) a 170-foot-long masonry overflow gravity section; (3) a 215-foot-long powerhouse integral with the dam containing seven turbine-generator units with a total installed capacity of 14.45 megawatts; (4) 6.9-kilovolt generator leads connecting the project to the non-project International Falls Mill; and (5) appurtenant facilities.

The project is operated pursuant to the orders of the International Joint Commission, established by the Boundary Waters Treaty of 1909 between the United States of America (U.S.A) and Canada. The project dam spans between the U.S.A. and Canada, but the project boundary only encompasses the U.S.A. side of the dam.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-5223). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. For public inquiries and assistance with making filings such as interventions, comments, or requests for rehearing, contact the Office of Public Participation at (202) 502-6595 or OPP@ferc.gov.

q. Procedural schedule and final amendments: The application will be processed according to the following preliminary schedule. Revisions to the schedule will be made as appropriate.

Milestone | Target date
Issue Deficiency Letter and Request Additional Information | March 2026.
Issue Acceptance Letter and Notice | June 2026.
Issue Scoping Notice | June 2026.
Scoping Comments due | July 2026.
Issue Ready for Environmental Analysis Notice | August 2026.

r. Final amendments to the application must be filed with the Commission no later than 30 days from the issuance date of the notice of ready for environmental analysis.

(Authority: 18 CFR 2.1)

Dated: December 4, 2025.
Debbie-Anne A. Reese,
Secretary.

[FR Doc. 2025-22342 Filed 12-8-25; 8:45 am]

BILLING CODE 6717-01-P